DEPARTMENT OF THE INTERIOR

Fish and Wildlife Service

Availability of Threemile Canyon Farms Multi-Species Candidate Conservation Agreement With Assurances, and Related Draft Environmental Assessment, Morrow and Gilliam Counties, Oregon

AGENCY: Fish and Wildlife Service, Interior.

ACTION: Notice of availability.

SUMMARY: Threemile Canyon Farms, LLC (Farm), Portland General Electric (PGE), The Nature Conservancy (TNC), and the Oregon Department of Fish and Wildlife (ODFW) have applied to the U.S. Fish and Wildlife Service (Service) for Enhancement of Survival Permits pursuant to section 10(a)(1)(A) of the Endangered Species Act of 1973, as amended (Act) (16 U.S.C. 1531 et seq.). The permit applications include a proposed Multi-Species Candidate Conservation Agreement with Assurances (MSCCAA) between the Farm, PGE, TNC, ODFW, and the Service. The proposed term of the permits and MSCCAA is 25 years.

Under the proposed MSCCAA, the parties would implement habitat management, operational modifications, and conservation measures for four non-listed species over approximately 93,000 acres (Covered Area) in northeast Oregon. The Service has prepared a draft Environmental Assessment pursuant to the National Environmental Policy Act of 1969 (NEPA) (42 U.S.C. 4321 et seq.) and associated regulations (40 CFR 1500-1508) for approval of the MSCCAA and issuance of the permits.

We request comments from the public on the permit applications, proposed MSCCAA and the draft Environmental Assessment, all of which are available for review (see “Document Availability” in the SUPPLEMENTARY INFORMATION section).

DATES: Written comments must be received from interested parties on or before October 14, 2003.

ADDRESSES: You may submit comments by postal mail/commercial delivery, facsimile, or by e-mail. If you use postal mail/commercial delivery or facsimile, please address your written comments to Kemper McMaster, State Supervisor, Fish and Wildlife Service, 2600 S.E. 98th Ave., Suite 100, Portland, Oregon 97266, facsimile (503) 231-6195. If you use e-mail, address your comments to threemilemsccaa@r1.fws.gov. Include your name and mailing address in your message.

FOR FURTHER INFORMATION CONTACT: Rich Szlemp, Fish and Wildlife Biologist, Oregon State Office at (503) 231-6179.

SUPPLEMENTARY INFORMATION:

Document Availability

You may obtain copies of the documents for review by contacting the above named individual (FOR FURTHER INFORMATION CONTACT) or by making an appointment to view the documents at the above address (see ADDRESSES) during normal business hours. You may also view the documents on the Internet at http://www.davidevansandassociates.com/projects/threemile.html.

Background

Under a Candidate Conservation Agreement with Assurances, participating landowners voluntarily implement conservation activities on their property to benefit nonlisted species that are proposed or candidates for listing under the Act, or other sensitive species. Landowners may be willing to implement measures that enhance populations of sensitive species on their property, but may be reluctant to do so because of potential land-use restrictions that could occur should the species eventually be listed under the Act. As a result of this potential regulatory concern, Candidate Conservation Agreements with Assurances encourage private and other non-Federal property owners to implement conservation efforts and reduce threats to non-listed species by assuring landowners that they will not be subjected to increased property use restrictions beyond those identified in the agreement. Under the Final Policy for Candidate Conservation Agreements with Assurances (64 FR 32726), the Service must determine that the benefits of the conservation measures implemented by the property owner, when combined with those benefits that would be achieved if it is assumed that conservation measure were also to be implemented on other necessary properties, would preclude or remove any need to list the covered species. Application requirements and issuance criteria for Enhancement of Survival Permits through Candidate Conservation Agreements with Assurances are found in 50 CFR 17.22(d) and 17.32(d). These permits allow the incidental take of any covered species in accordance with the terms of the permits and accompanying agreement, should the species be listed during the term of the permit. Section 9 of the Act and its implementing Federal regulations prohibit the “take” of a species listed as endangered or threatened. Take is defined under the Act as including to harass, harm, pursue, hunt, shoot, wound, kill, trap, capture, or collect listed animal species, or to attempt to engage in such conduct (16 U.S.C. 1538). “Harm” is further defined by regulation as significant habitat modification or degradation that results in death or injury to listed species by significantly impairing essential behavioral patterns; including breeding, feeding, or sheltering (50 CFR 17.3).

In 1963, the State of Oregon leased approximately 93,000 acres of property to the Boeing Company. In 1974, the Boeing Company leased the property to Boeing Agri-Industrial Company (BAIC), a wholly-owned subsidiary of the Boeing Company. In 2000, BAIC was sold to the Farm and in 2002, the Farm, by and through its wholly-owned subsidiary BAIC, Inc., purchased the property from the State of Oregon. Since 1974, the majority of the property has been used for farming purposes. PGE owns and controls approximately 3,520 acres within the Farm property boundary. The Boeing Company continues to lease approximately 2,700 acres within the Farm property described as the “radar range” in the agreement. The Boeing lease is set to expire in 2040.

In 2000, principal Farm representatives joined with environmental organizations to set aside differences and to cooperatively balance conservation and sustainable agriculture. A settlement agreement was reached in 2000 that set forth terms and conditions under which the parties agreed to settle litigation. The purpose of the settlement agreement was to allow development and utilization of the agreed-upon Development Area and associated water resources in a manner that preserved the ecological integrity of the adjacent Conservation Area while at the same time protecting Columbia and Snake River salmon and steelhead, the Washington ground squirrel (Spermophilus washingtoni), and other ecological values.

In order to address long-term conservation of the ecological values of the Covered Area and to implement the terms of the settlement agreement and creation of a Conservation Area, Farm representatives agreed to develop and implement a conservation plan that prescribes management practices for the development portion of the property while providing protection within the Conservation Area. As a result of these efforts, a draft Candidate Conservation Agreement with Assurances was developed.

Description of Proposed Action

The Farm, PGE, TNC, and ODFW have applied to the Service for 25-year Enhancement of Survival Permits pursuant to section 10(a)(1)(A) of the Act. The permits would cover habitat management, operational modifications, and conservation measures on approximately 93,000 acres in northeast Oregon (Covered Area). The Covered Area is primarily in Morrow County, with western portions in Gilliam County. The city of Boardman is approximately 6 miles to the northeast and the city of Heppner is approximately 25 miles to the south. Interstate 84 runs through the north portion of the Covered Area. The MSCCAA proposes to cover four nonlisted species facing steadily declining populations: the Washington ground squirrel; ferruginous hawk (Buteo regalis); loggerhead shrike (Lanius ludovicianus gambeli); and sage sparrow (Amphispiza belli) (Covered Species).

On October 25, 1999, the Service formally identified the Washington ground squirrel as a candidate for listing under the Act with a priority number of 5 (64 FR 57534). Since this initial candidate listing, the Service raised the listing priority to 2 based on additional information on the overall decline of the species throughout its range and an increased threat from agricultural conversion (66 FR 1296). Washington ground squirrels are also listed as endangered under Oregon law. The Washington ground squirrel is endemic to the Deschutes-Columbia Plateau Province south of the Columbia River and east of the John Day River. Its range was probably contiguous when the region was first settled, but now consists of three distinct sub-populations, two in Washington and one in Oregon. The MSCCAA addresses the Oregon population of the squirrel, which occurs in lower elevation (generally up to 800 feet) native grasslands and shrub-steppe, south of the Columbia River, east of the John Day River, and west of Pendleton.

The ferruginous hawk is a species of concern and is identified by the State of Oregon as a sensitive species. This species is included within this MSCCAA due to its sensitive status within the region, its strong association with the native grassland and shrub-steppe habitats in the Covered Area, and the fact that a conserved portion of the Covered Area contains the largest remaining piece of shrub-steppe habitat in the Columbia Basin.

The loggerhead shrike is an Oregon State sensitive species (vulnerable) in the Columbia Basin but has no current Federal listing status. Breeding Bird Surveys documented an annual decline of 2.7 percent nationally between 1968 and 1994. The population decline has been attributed to many factors, including pesticides, loss of nesting habitat, high winter mortality, and intensive farming practices. This species is included in this MSCCAA because the population appears to be declining across its range (thereby increasing its likelihood of becoming proposed for Federal listing) and because of recent data showing poor nesting success and high fledgling mortality on the adjacent Naval Facility.

The sage sparrow is Oregon State-listed as sensitive (critical) in the Columbia Basin but has no current Federal listing status. The sage sparrow is included in this MSCCAA due to its apparent declining range and strong positive correlation with the sagebrush habitats in the Covered Area.

Covered Species are largely dependent on private lands in the project area. Primary factors for their declining populations include loss, degradation, or fragmentation of suitable habitat within the Columbia Basin Ecosystem, largely due to the conversion of shrub-steppe to agricultural use. Conservation measures that preserve or enhance suitable habitat on private lands are critically important for the long-term survival of these species.

Pursuant to the proposed MSCCAA, the Farm (including its leased properties, affiliates, and tenants), TNC, and PGE have already begun implementing or will implement the following measures within the Covered Area:

(1) Dedicate a combined total of approximately 23,480 acres to Conservation Areas. TNC, or a comparable third-party conservation organization, will manage in perpetuity the 22,600 acres of Conservation Areas dedicated by the Farm and protected under a permanent conservation easement with the intent of maintaining and improving the imperiled native shrub-steppe and grassland habitats for the Covered Species and other associated wildlife. The PGE Conservation Area, approximately 880 acres, would also be protected from development and managed by PGE for conservation purposes for the life of the MSCCAA.

(2) Provide a 250-foot buffer around all of the Farm Conservation Areas to further restrict land use activities that otherwise could affect the outer edges of the Farm Conservation Area.

(3) Provide funds for the preservation, management, and improvement of the Conservation Areas, including intensive noxious weed control.

(4) Provide funds for conducting extensive monitoring, surveying, notification, and reporting.

(5) Provide restrictions on grazing, ground-disturbing activities, hunting and shooting to avoid or minimize harmful impacts to the Covered Species.

(6) Develop and implement coordinated fire response plans and detailed conservation management plans for the Conservation Areas.

(7) Provide for adaptive management within the Conservation Areas to address changing habitat conditions.

A draft EA has been prepared to address the impacts of issuing ESA assurances through the MSCCAA for the four covered species. The draft EA evaluates the environmental impacts that may result from implementation of the conservation measures described in the MSCCAA. The draft EA describes five alternatives to the proposed action including the “no action” alternative.

This notice is provided pursuant to section 10(c) of the Act, the Candidate Conservation Agreement with Assurances standard precluding the need to list, and NEPA regulations (40 CFR 1506.6). The Service will evaluate the permit applications, associated documents, and comments submitted thereon to determine whether the permit applications meet the requirements of section 10(a) of the Act and NEPA regulations. All comments received, including names and addresses, will become part of the administrative record and will be available for review pursuant to section 10(c) of the Act. If we determine that all requirements are met, we will sign the MSCCAA and issue separate permits to the Farm, PGE, TNC, and ODFW for the take of the Covered Species (should they be listed during the term of the permits), incidental to otherwise lawful activities in accordance with the terms of the MSCCAA. The final permit decisions will be made no sooner than 45 days after the date of this notice.

Dated: July 28, 2003.
Carolyn Bohan,
Acting Deputy Regional Director, Fish and Wildlife Service, Region 1, Portland, Oregon.

[FR Doc. 03-21867 Filed 8-26-03; 8:45 am]

BILLING CODE 4310-5-P